NUCLEAR REGULATORY COMMISSION

10 CFR Parts 20, 30, 31, 32, 33, 35, 50, 61, 62, 72, 110, 150, 170 and 171

RIN 3150-AH84

Requirements for Expanded Definition of Byproduct Material; Meeting

AGENCY: U.S. Nuclear Regulatory Commission.

ACTION: Proposed rule; meeting.

SUMMARY: The U.S. Nuclear Regulatory Commission (NRC) has published a proposed rule on the Requirements for the Expanded Definition of Byproduct Material (also known as the NARM rulemaking) for public comment (71 FR 42952; July 28, 2006). The public comment period runs from July 28 thru September 11, 2006. As part of the public comment process, the NRC plans to hold a transcribed public meeting to solicit comments on the proposed rule. The meeting is open to the public, and all interested parties may attend. The meeting will be held at the NRC's William Oldstead High-Level Waste Hearing Facility in Las Vegas, Nevada. During the comment period, comments may also be mailed to the NRC or submitted via fax or e-mail.

DATES: August 22, 2006, from 9 a.m. to 12 p.m. (PT) in Las Vegas, NV.

ADDRESSES: The meeting will be held at the NRC's William Oldstead High-Level Waste Hearing Facility—Pacific Enterprise Plaza, Building No. 1, 3250 Pepper Lane, Las Vegas, Nevada 89120.

FOR FURTHER INFORMATION CONTACT: Lydia Chang, telephone: (301) 415-6319, e-mail: lwc1@nrc.gov or Jayne McCausland, telephone: (301) 415-6219, e-mail: jmm2@nrc.gov of the Office of Nuclear Material Safety and Safeguards, U.S. Nuclear Regulatory Commission, Washington, DC 20555-0001. Attendees are requested to notify Jayne McCausland, telephone: (301) 415-6219, e-mail: jmm2@nrc.gov to preregister for the meetings. You will be able to register at the meetings, as well.

SUPPLEMENTARY INFORMATION: The purpose of the meeting is to obtain stakeholder comments on the Proposed Rule for Requirements for Expanded Definition of Byproduct Material. Section 651(e) of the Energy Policy Act of 2005 expanded the definition of byproduct material in Section 11e. of the Atomic Energy Act of 1954 to include certain naturally occurring and accelerator-produced radioactive material (NARM) and required the NRC to provide a regulatory framework for licensing and regulating NARM. The proposed rule would require persons owning, using, or otherwise engaging in activities involving discrete sources of radium-226 or accelerator-produced radioactive material to comply with NRC regulations in Title 10 of the Code of Federal Regulations.

Agenda: Welcome—10 minutes; NRC Staff Presentation on Proposed Rule Requirements—30 minutes; Public Comment—remainder. To ensure that everyone who wishes has the chance to comment, we may impose a time limit on speakers.

Those planning to attend the meeting are encouraged to preregister for the meeting by notifying Ms. Jayne M. McCausland, telephone: (301) 415-6219, fax: (301) 415-5369, or e-mail: jmm2@nrc.gov. If an attendee will require special services, such as services for the hearing impaired, please notify Ms. McCausland of these requirements when preregistering.

Attendees at this public meeting will be subject to security screening prior to entering the hearing facility. Attendees should plan to arrive approximately 30 minutes prior to the meeting. There is no food or drink (other than water) allowed in the hearing facility. Parking in front of the building is limited, but ample street parking is available nearby on Pepper Lane and Sage Brush.

Dated at Rockville, Maryland, this 28th day of July, 2006.
For the Nuclear Regulatory Commission.
Charles Miller,
Director, Division of Industrial, Medical, Nuclear Safety, Office of Nuclear Material Safety and Safeguards.

[FR Doc. E6-12517 Filed 8-2-06; 8:45 am]

BILLING CODE 7590-01-P